DEPARTMENT OF DEFENSE

Office of the Secretary

[Transmittal No. 20-62]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 20-62, Policy Justification, and Sensitivity of Technology.

Dated: December 9, 2025.
Stephanie J. Bost,
Alternate OSD Federal Register Liaison Officer, Department of Defense.

BILLING CODE 6001-FR-P

BILLING CODE 6001-FR-C

Transmittal No. 20-62

Notice of Proposed Issuance of Letter of Offer Pursuant to Section 36(b)(1) of the Arms Export Control Act, as amended

(i) Prospective Purchaser: Kingdom of Saudi Arabia

(ii) Total Estimated Value:

Major Defense Equipment * | $653 million
Other | $ 2 million
TOTAL | $655 million

Funding Source: National Funds

(iii) Description and Quantity or Quantities of Articles or Services under Consideration for Purchase:

Major Defense Equipment (MDE):

Two Thousand Five Hundred Three (2,503) AGM-114R3 Hellfire II Missiles (3 for lot acceptance testing)

Non-MDE:

Also included are support and test equipment; integration and test support; spare and repair parts; software delivery and support; publications and technical documentation; personnel training and training equipment; United States (U.S.) Government and contractor engineering, technical and logistics support services; storage; and other related elements of logistical and program support.

(iv) Military Department: Army (SR-B-WCZ)

(v) Prior Related Cases, if any: SR-B-WAL

(vi) Sales Commission, Fee, etc., Paid, Offered, or Agreed to be Paid: None

(vii) Sensitivity of Technology Contained in the Defense Article or Defense Services Proposed to be Sold: See Attached Annex

(viii) Date Report Delivered to Congress: October 11, 2024

* as defined in Section 47(6) of the Arms Export Control Act.

POLICY JUSTIFICATION

Kingdom of Saudi Arabia—AGM-114R3 Hellfire II Missiles

The Kingdom of Saudi Arabia has requested to buy Two Thousand Five Hundred Three (2,503) AGM-114R3 Hellfire II missiles (3 for lot acceptance testing). Also included are support and test equipment; integration and test support; spare and repair parts; software delivery and support; publications and technical documentation; personnel training and training equipment; U.S. Government and contractor engineering, technical and logistics support services; storage; and other related elements of logistical and program support. The total estimated cost is $655 million.

This proposed sale will support the foreign policy and national security of the U.S. by helping to improve the security of a friendly country that continues to be an important force for political and economic progress in the Middle East.

The proposed sale will improve Saudi Arabia's capability to meet current and future threats and improve interoperability with systems operated by U.S. Forces and other Gulf countries. Saudi Arabia's continued investment in its defensive capabilities is crucial to protecting its borders, energy infrastructure, and its residents. Saudi Arabia will have no difficulty absorbing these missiles into its armed forces.

The proposed sale of this equipment and support will not alter the basic military balance in the region.

The principal contractor will be The Lockheed Martin Corporation, Troy, AL. The purchaser typically requests offsets. Any offset agreement will be defined in negotiations between the purchaser and the contractor.

Implementation of this proposed sale will not require the assignment of any additional U.S. Government or contractor representatives to Saudi Arabia. The only additional U.S. military support required would be Technical Assistance Field Team (TAFT) visits during training phases.

There will be no adverse impact on U.S. defense readiness as a result of this proposed sale.

Transmittal No. 20-62

Notice of Proposed Issuance of Letter of Offer Pursuant to Section 36(b)(1) of the Arms Export Control Act

Annex

Item No. vii

(vii) Sensitivity of Technology:

1. The AGM-114R3 Hellfire II missile is a precision strike, Semi-Active Laser (SAL)-guided missile and is the principal air-to-ground weapon for the Army. The AGM-114R3 Hellfire II missile provides the warfighter with an air-to-ground, point-target precision strike capability to defeat advanced armor and an array of traditional and nontraditional targets.

2. The highest level of classification of defense articles, components, and services included in this potential sale is SECRET.

3. If a technologically advanced adversary were to obtain knowledge of the hardware and software elements, the information could be used to develop countermeasures or equivalent systems which might reduce system effectiveness or be used in the development of a system with similar or advanced capabilities.

4. A determination has been made that the Government of Saudi Arabia can provide substantially the same degree of protection for the sensitive technology being released as the U.S. Government. This sale is necessary in furtherance of the U.S. foreign policy and national security objectives outlined in the Policy Justification.

5. All defense articles and services listed in this transmittal are authorized for release and export to the Kingdom of Saudi Arabia.

[FR Doc. 2025-22606 Filed 12-11-25; 8:45 am]

BILLING CODE 6001-FR-P